DEPARTMENT OF TRANSPORTATION

Federal Aviation Administration

14 CFR Part 71

[Docket No. FAA-2007-29058; Airspace Docket 07-ASO-21]

Amendment of Class D Airspace; Jacksonville Whitehouse NOLF, FL

AGENCY: Federal Aviation Administration (FAA), DOT.

ACTION: Final rule.

SUMMARY: This notice amends the Class D airspace at Jacksonville Whitehouse Naval Out Lying Field (NOLF), FL. An evaluation determined the Class D airspace should be reduced at Jacksonville NOLF. This rule increases the safety and efficiency of the National Airspace System by modifying its dimensions with adjacent Jacksonville Cecil Field Class D airspace and the Herlong Airport.

DATES: Effective 0901 UTC, June 05, 2008. The Director of the Federal Register approves this incorporation by reference action under title 1, Code of Federal Regulations, part 51, subject to the annual revision of FAA Order 7400.9 and publication of conforming amendments.

FOR FURTHER INFORMATION CONTACT: Daryl Daniels, System Support, Eastern Service Center, Federal Aviation Administration, P.O. Box 20636, Atlanta, Georgia 30320; telephone (404) 305-5581.

SUPPLEMENTARY INFORMATION:

History

On December 10, 2007, the FAA published in the Federal Register a NPRM to amend the Class D airspace at Jacksonville Whitehouse NOLF, FL (72 FR 69638). Airspace evaluation identified the ability to reduce the size of the current Class D airspace while continuing to provide adequate support for the numerous Standard Instrument Approach Procedures (SIAP) at Jacksonville Whitehouse NOLF. The airspace was adjusted to allow neighboring Herlong Airport adequate airspace for its operations and a demarcation line was established between Jacksonville Whitehouse and Jacksonville Cecil's Class D Airspace.

Interested parties were invited to participate in this proposed rulemaking by submitting such written data, views or arguments, as they may have desired on the proposal to the FAA. No comments objecting to the proposal were received.

The Rule

This amendment to Title 14, Code of Federal Regulations (14 CFR) part 71 modifies Class D airspace at Jacksonville Whitehouse NOLF, FL by reducing the Class D airspace area from a 5-mile radius to a 4.3-mile radius of Whitehouse NOLF excluding that airspace within a 1.8-mile radius of Herlong Airport and that airspace south of the demarcation line between Jacksonville Whitehouse's and Cecil Field's Class D airspace.

Class D airspace designations are published in Paragraph 5000 of FAA Order 7400.9R, dated August 15, 2007, and effective September 15, 2007, which is incorporated by reference in 14 CFR 71.1. The Class D airspace designations listed in this document will be published subsequently in the Order.

Agency Findings

The regulations adopted herein will not have substantial direct effects on the States, on the relationship between the national government and the States, or on the distribution of power and responsibilities among various levels of government. Therefore, it is determined that this final rule does not have federalism implications under Executive Order 13132.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States code. Subtitle I, Section 106 describes the authority of the FAA Administrator. Subtitle VII, Aviation Programs, describes in more detail the scope of the agency's authority.

This rulemaking is promulgated under the authority described in subtitle VII, part A, subpart I, section 40103. Under that section, the FAA is charged with prescribing regulations to assign the use of airspace necessary to ensure the safety of aircraft and the efficient use of airspace. This regulation is within the scope of that authority as it modifies the Class D airspace at Jacksonville Whitehouse NOLF.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9R, Airspace Designations and Reporting Points, dated August 15, 2007, and effective September 15, 2007, is amended as follows:

Paragraph 5000 Class D Airspace.

* * * * *

ASO FL D Jacksonville Whitehouse NOLF, FL [Revised]

Whitehouse NOLF, FL

(Lat. 30°21′01″ N., long. 81°52′59″ W.)

Cecil Field

(Lat. 30°13′07″ N., long. 81°52′36″ W.)

Herlong Airport

(Lat. 30°16′40″ N., long. 81°48′21″ W.)

That airspace extending upward from the surface of the Earth, to and including 2,600 feet MSL, within a 4.3-mile radius of Whitehouse NOLF, excluding that airspace within a 1.8-mile radius of Herlong Airport and that airspace south of a line from lat. 30°17′00″ N., long. 81°50′24″ W. to lat. 30°17′00″ N., long. 81°54′47″ W., which abuts the Jacksonville Cecil Field Class D airspace. This Class D airspace area is effective during the specific days and times established in advance by a Notice to Airmen. The effective days and times will thereafter be continuously published in the Airport/Facility Directory.

* * * * *

Issued in College Park, Georgia, on February 26, 2008.
Mark D. Ward,
Manager, System Support Group, Eastern Service Center.

[FR Doc. E8-7668 Filed 4-14-08; 8:45 am]

BILLING CODE 4910-13-P